DEPARTMENT OF STATE

[Public Notice: 9670]

Notice of Receipt of Application for a Presidential Permit To Operate and Maintain the Brownsville West Rail Bypass International Bridge on the U.S.-Mexico Border West of Brownsville, Texas

AGENCY: Department of State.

ACTION: Notice.

SUMMARY: The Department of State hereby gives notice that, on July 22, 2016, it received an application from the Union Pacific Railroad Company (UPRR) for a Presidential Permit to operate and maintain the Brownsville West Rail Bypass International Bridge. The current Presidential Permit for the Brownsville West Rail Bypass International Bridge is held by Cameron County, Texas. The Department of State's jurisdiction over this application is based upon Executive Order 11423 of August 16, 1968, as amended. As provided in E.O. 11423, the Department is circulating this application to relevant federal agencies for review and comment. Under E.O. 11423, the Department has the responsibility to determine, taking into account input from these agencies and other stakeholders, whether transferring the Presidential Permit from Cameron County to UPRR would serve the national interest.

Interested members of the public are invited to submit written comments regarding this application on or before September 22, 2016 to the U.S.-Mexico Border Affairs Office, via email at WHA-BorderAffairs@state.gov or by mail at WHA/MEX—Room 3924, Department of State, 2201 C St. NW., Washington, DC 20520.

FOR FURTHER INFORMATION CONTACT: U.S.-Mexico Border Affairs Office, via email at WHA-BorderAffairs@state.gov; by phone at 202-647-9894; or by mail at WHA/MEX—Room 3924, Department of State, 2201 C St. NW., Washington, DC 20520.

SUPPLEMENTARY INFORMATION: The application and supporting documents are available online at http://www.state.gov/p/wha/rt/permit/app/upp/index.htm.

Dated: August 8, 2016.
Brian Harris,
Acting Director, Office of Mexican Affairs, Department of State.

[FR Doc. 2016-20111 Filed 8-22-16; 8:45 am]

BILLING CODE 4710-29-P